DEPARTMENT OF HEALTH AND HUMAN SERVICES

National Toxicology Program (NTP); Report on Carcinogens (RoC); Availability of the Draft Background Document for Styrene; Request for Comments on the Draft Background Document for Styrene; Announcement of the Styrene Expert Panel Meeting

AGENCY: National Institute of Environmental Health Sciences (NIEHS); National Institutes of Health (NIH).

ACTION: Availability of Background Documents; Request for Comments; and Announcement of a Meeting.

SUMMARY: The NTP announces the availability of the draft background document for styrene on May 22, 2008, on the RoC Web site (http://ntp.niehs.nih.gov/go/29679) or in printed text from the RoC (see ADDRESSES below). The NTP invites the submission of public comments on the draft background document for styrene. The expert panel will meet on July 21-22, 2008, at the Radisson Hotel Research Triangle Park, 150 Park Drive, Research Triangle Park, NC 27709 to peer review the draft background document for styrene and, once completed, make a recommendation regarding the listing status for styrene (i.e., known to be a human carcinogen, reasonably anticipated to be a human carcinogen, or not to list) in the 12th Edition of the RoC (12th RoC). The RoC expert panel meeting is open to the public with time scheduled for oral public comments. Attendance is limited only by the available meeting room space. Following the expert panel meeting and completion of the expert panel report, the NTP will post the final version of the background document and the expert-panel peer review report on the RoC Web site.

DATES: The expert panel meeting for styrene will be held on July 21-22, 2008. The draft background document for styrene will be available for public comment on May 22, 2008. The deadline to submit written comments is July 07, 2008, for pre-registration to attend the meeting is July 14, 2008, and for pre-registration to provide oral comments at the meeting is July 14, 2008.

ADDRESSES: The RoC expert panel meeting on styrene will be held at Radisson Hotel Research Triangle Park, 150 Park Drive, Research Triangle Park, NC 27709. Access to on-line registration and materials for the meeting are available on the RoC Web site (http://ntp.niehs.nih.gov/go/29679). Comments on the draft background document should be sent to Dr. Ruth M. Lunn, NIEHS, P.O. Box 12233, MD EC-14, Research Triangle Park, NC 27709, FAX: (919) 316-4637, or lunn@niehs.nih.gov. Courier address: Report on Carcinogens Office, 79 T.W. Alexander Drive, Building 4401, Room 3118, Research Triangle Park, NC 27709. Persons needing interpreting services in order to attend should contact 301-402-8180 (voice) or 301-435-1908 (TTY). Requests should be made at least seven business days in advance of the meeting.

FOR FURTHER INFORMATION CONTACT: Dr. Ruth M. Lunn (telephone: 919-316-4637, or lunn@niehs.nih.gov).

SUPPLEMENTARY INFORMATION:

Background

The NTP announced the RoC review process for the 12th RoC on April 16, 2007, in the Federal Register (72 FR 18999 available at http://ntp.niehs.nih.gov/go/15208). An expert panel meeting is being convened on July 21-22, 2008, to review styrene for possible listing in the 12th RoC. The draft background document for styrene will be available on the RoC Web site on May 22, 2008, in printed text from the RoC Office (see ADDRESSES above). Persons can register free-of-charge with the NTP listserv to receive notification when draft RoC background documents for other candidate substances for the 12th RoC are made available on the RoC Web site (http://ntp.niehs.nih.gov/go/231).

Styrene is a very important monomer used worldwide in the production of polymers, which are incorporated into products such as rubber, plastic, insulation, fiberglass, pipes, automobile parts, food containers, and carpet backing. Most of these products contain both free styrene monomer and styrene polymerized in long chains (polystyrene). Sources of exposure to the general public include inhalation of indoor and outdoor ambient air, smoking, and ingestion of foods. Occupational exposure occurs mainly in the reinforced plastics, styrene-butadiene rubber, and styrene monomer and polymer industries.

Preliminary Agenda, Availability of Meeting Topics and Registration

Preliminary agenda topics include:

• Oral public comments on styrene.

• Peer review of the draft background document on styrene.

• Recommendation for listing status for styrene in the 12th RoC.

The meeting is schedule for July 21-22, 2008, from 8:30 a.m. to adjournment each day. A copy of the preliminary agenda, expert panel roster, and any additional information, when available, will be posted on the RoC Web site or may be requested from the Director of the RoC Office (see ADDRESSES above). Individuals who plan to attend the meeting are encouraged to register on-line by July 14, 2008, to facilitate planning for the meeting.

Request for Comments

The NTP invites both written and oral public comments on the draft background document on styrene. All written comments received will be posted on the RoC website prior to the meeting and distributed to the expert panel and RoC staff for their consideration in the peer review of the draft background document and/or preparation for the expert panel meeting. Persons submitting written comments are asked to include their name and contact information (affiliation, mailing address, telephone and facsimile numbers, e-mail, and sponsoring organization, if any) and send them to Dr. Lunn (see ADDRESSES above) for receipt by July 07, 2008. Time will be set-aside at the expert panel meeting for the presentation of oral public comments. Seven minutes will be available for each speaker (one speaker per organization). Persons can register on-line to present oral comments or contact Dr. Lunn (see ADDRESSES above). When registering to comment orally, please provide your name, affiliation, mailing address, telephone and facsimile numbers, e-mail and sponsoring organization (if any). If possible, send a copy of the statement or talking points to Dr. Lunn by July 14, 2008. This statement will be provided to the expert panel to assist them in identifying issues for discussion and will be noted in the meeting record. Registration for presentation of oral comments will also be available at the meeting on July 21-22, 2008, from 7:30-8:30 a.m. Time allowed for comments by on-site registrants may be less than for pre-registered speakers and will be determined by the number of persons who register at the meeting. Persons registering at the meeting are asked to bring 25 copies of their statement or talking points for distribution to the expert panel and for the record.

Background Information on the RoC

The RoC is a congressionally mandated document [Section 301(b)(4) of the Public Health Services Act, 42 U.S.C. 241(b)(4)] that identifies and discusses agents, substances, mixtures, or exposure circumstances (collectively referred to as “substances”) that may pose a hazard to human health by virtue of their carcinogenicity. Substances are listed in the report as either known or reasonably anticipated to be human carcinogens. The NTP prepares the RoC on behalf of the Secretary of Health and Human Services. Information about the RoC and the nomination process can be obtained from its homepage (http://ntp.niehs.nih.gov/go/roc) or by contacting Dr. Lunn (see FOR FURTHER INFORMATION CONTACT above). The NTP follows a formal, multi-step process for review and evaluation of selected chemicals. The formal evaluation process is available on the RoC Web site (http://ntp.niehs.nih.gov/go/15208) or in printed copy from the RoC Office.

Dated: May 8, 2008.
Samuel H. Wilson,
Acting Director, National Institute of Environmental Health Sciences and National Toxicology Program.

[FR Doc. E8-11207 Filed 5-19-08; 8:45 am]

BILLING CODE 4140-01-P